DEPARTMENT OF COMMERCE

National Institute of Standards and Technology

Announcing an Open Meeting of the Information Security and Privacy Advisory Board

AGENCY: National Institute of Standards and Technology, Commerce.

ACTION: Notice.

SUMMARY: The Information Security and Privacy Advisory Board (ISPAB) will meet Wednesday, May 30, 2012, from 8:30 a.m. until 5:30 p.m., Eastern Time, Thursday, May 31, 2012, from 8:30 a.m. until 5:30 p.m., Eastern Time, and Friday, June 1, 2012 from 8:30 a.m. until 1:00 p.m. Eastern Time. All sessions will be open to the public.

DATES: The meeting will be held on Wednesday, May 30, 2012, from 8:30 a.m. until 5:30 p.m., Eastern Time, Thursday, May 31, 2012, from 8:30 a.m. until 5:30 p.m., Eastern Time, and Friday, June 1, 2012 from 8:30 a.m. until 1:00 p.m. Eastern Time.

ADDRESSES: The meeting will be held in the Heritage Room, Administration Building, at the National Institute of Standards Technology (NIST), 100, Bureau Drive, Gaithersburg, Maryland 20899. Please note admittance instructions under the SUPPLEMENTARY INFORMATION section of this notice.

FOR FURTHER INFORMATION CONTACT: Annie Sokol, Information Technology Laboratory, NIST, 100 Bureau Drive, Stop 8930, Gaithersburg, MD 20899-8930, telephone: (301) 975-2006, Email address: annie.sokol@nist.gov.

SUPPLEMENTARY INFORMATION: Pursuant to the Federal Advisory Committee Act, 5 U.S.C. App., notice is hereby given that the Information Security and Privacy Advisory Board (ISPAB) will meet Wednesday, May 30, 2012, from 8:30 a.m. until 5:30 p.m., Eastern Time, Thursday, May 31, 2012, from 8:30 a.m. until 5:30 p.m., Eastern Time, and Friday, June 1, 2012 from 8:30 a.m. until 1:00 p.m. Eastern Time. All sessions will be open to the public. The ISPAB is authorized by 15 U.S.C. 278g-4, as amended, and advises the Secretary of Commerce, the Director of the Office of Management and Budget, and the Director of NIST on security and privacy issues pertaining to federal computer systems. Details regarding the ISPAB's activities are available at http://csrc.nist.gov/groups/SMA/ispab/index.html.

The agenda is expected to include the following items:

—Presentation relating to legislative dates,

—Panel discussion on Joint Cybersecurity Service Program,

—Panel discussion relating to Automated Indicator Sharing,

—Panel discussion on Privacy Research,

—Panel discussion on SEC Security Breach Notification,

—Panel discussion on data feedback to the network,

—Presentation on supply chain and risk management,

—Panel discussion/presentation on Red Team and Blue Team,

—Presentation/Discussion on NIST Research and Secure Mobile Devices,

—Update of National Strategy for Trusted Identities in Cyberspace,

—Presentation on key management,

—Presentation on Testing/Metric, and

—Update on NIST Computer Security Division.

Note that agenda items may change without notice because of possible unexpected schedule conflicts of presenters. The final agenda will be posted on the Web site indicated above. Approximately fifteen seats will be available for the public and media. Pre-registration is required to attend this meeting.

All visitors to the NIST site are required to pre-register to be admitted. Please submit your name, email address and phone number to Annie Sokol by 5:00 p.m. Eastern Time, Tuesday, May 29, 2012. Non-U.S. citizens must also submit their country of citizenship, title, employer/sponsor, and address by 5:00 p.m. Eastern Time, Thursday, May 24, 2012. Annie Sokol's email address is annie.sokol@nist.gov and her telephone number is 301-975-2006.

Public Participation: The ISPAB agenda will include a period of time, not to exceed thirty minutes, for oral comments from the public (Friday, June 1, 2012, between 8:45 a.m. and 9:15 a.m.). Speakers will be selected on a first-come, first served basis. Each speaker will be limited to five minutes. Members of the public who are interested in speaking are asked to contact Ms. Annie Sokol at the telephone number indicated above.

In addition, written statements are invited and may be submitted to the ISPAB at any time. Written statements should be directed to the ISPAB Secretariat, Information Technology Laboratory, 100 Bureau Drive, Stop 8930, National Institute of Standards and Technology, Gaithersburg, MD 20899-8930.

Dated: April 24, 2012.
Willie E. May,
Associate Director for Laboratory Programs.

[FR Doc. 2012-10437 Filed 4-30-12; 8:45 am]

BILLING CODE 3510-13-P